DEPARTMENT OF COMMERCE

National Oceanic and Atmospheric Administration

RIN 0648-XG806

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a meeting of its Law Enforcement Technical Committee (LETC), in conjunction with the Gulf States Marine Fisheries Commission's Law Enforcement Committee (LEC).

DATES: The meeting will convene on Wednesday, March 20, 2019; beginning at 8:30 a.m. and adjourn at 5 p.m.

ADDRESSES: The meeting will be held at the JW Marriott Hotel, located at 614 Canal Street, New Orleans, LA 70130; telephone: (504) 525-6500.

Council address: Gulf of Mexico Fishery Management Council, 4107 W Spruce Street, Suite 200, Tampa, FL 33607; telephone: (813) 348-1630.

FOR FURTHER INFORMATION CONTACT: Dr. Ava Lasseter, Anthropologist, Gulf of Mexico Fishery Management Council; ava.lasseter@gulfcouncil.org, telephone: (813) 348-1630, and Mr. Steve VanderKooy, Inter-jurisdictional Fisheries (IJF) Coordinator, Gulf States Marine Fisheries Commission; svanderkooy@gsmfc.org, telephone: (228) 875-5912.

SUPPLEMENTARY INFORMATION: The items of discussion on the agenda are as follows:

Joint Gulf Council's Law Enforcement Technical Committee and Gulf States Marine Fisheries Commission's Law Enforcement Committee Meeting Agenda

Wednesday, March 20, 2019, 8:30 a.m. Until 5 p.m.

1. Introductions and Adoption of Agenda

2. Approval of Minutes (Joint Meeting October 17, 2018)

Gulf Council LETC Items

3. Recreational Red Snapper State Management Programs—new action for federal water closures and update on final action

4. Historical Captain Endorsement action—update

5. Review of Council Actions to determine Law Enforcement Implications

6. Issue of state-licensed for-hire boats and privately owned boats taking paying passengers to fish for red snapper in federal waters

7. Developing a Possible Team of the Year Award

8. LETC Other Business

GSMFC LEC Items

9. Future of JEAs and JEA Funding Discussion

10. IJF Program Activity

(a) Cobia Profile

(b) Red Drum Profile

(c) Officers' Pocket Guide

(d) Annual License and Fees

(e) Law Summary (red book)

11. State Report Highlights

(a) Florida

(b) Alabama

(c) Mississippi

(d) Louisiana

(e) Texas

(f) U.S. CG

(g) NOAA OLE

(h) U.S. FWS

12. Other Business

—Meeting Adjourns

The Agenda is subject to change, and the latest version along with other meeting materials will be posted on www.gulfcouncil.org as they become available.

The Law Enforcement Technical Committee consists of principal law enforcement officers in each of the Gulf States, as well as the NOAA Law Enforcement, U.S. Fish and Wildlife Service, the U.S. Coast Guard, and the NOAA General Counsel for Law Enforcement.

Although other non-emergency issues not on the agenda may come before this group for discussion, in accordance with the Magnuson-Stevens Fishery Conservation and Management Act, those issues may not be the subject of formal action during this meeting. Actions will be restricted to those issues specifically identified in the agenda and any issues arising after publication of this notice that require emergency action under section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: February 11, 2019.
Tracey L. Thompson,
Acting Deputy Director, Office of Sustainable Fisheries, National Marine Fisheries Service.

[FR Doc. 2019-02324 Filed 2-13-19; 8:45 am]

BILLING CODE 3510-22-P